INTERNATIONAL TRADE COMMISSION

[Investigation No. 731-TA-740 (Review)]

Sodium Azide From Japan

AGENCY: United States International Trade Commission.

ACTION: Termination of five-year review.

SUMMARY: The subject five-year review was initiated in December 2001 to determine whether termination of the suspended antidumping duty investigation on sodium azide from Japan would be likely to lead to continuation or recurrence of dumping and of material injury to a domestic industry. On January 11, 2002, the Department of Commerce published notice that it was terminating the suspended investigation effective January 7, 2002 “[b]ecause no domestic interested party responded to the notice of initiation by the applicable deadline” (67 FR 1438-39). Accordingly, pursuant to section 751(c) of the Tariff Act of 1930 (19 U.S.C. § 1675(c)), the subject review is terminated.

EFFECTIVE DATE: January 7, 2002.

FOR FURTHER INFORMATION CONTACT: Vera Libeau (202-205-3176), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

Authority: This review is being terminated under authority of title VII of the Tariff Act of 1930; this notice is published pursuant to section 207.69 of the Commission's rules (19 CFR 207.69).

Issued: January 14, 2002.
By order of the Commission.
Marilyn R. Abbott,
Acting Secretary.

[FR Doc. 02-1225 Filed 1-16-02; 8:45 am]

BILLING CODE 7020-02-P